DEPARTMENT OF TRANSPORTATION

Federal Aviation Administration

14 CFR Part 39

[Docket No. 2003-NM-139-AD; Amendment 39-13457; AD 2004-03-13]

RIN 2120-AA64

Airworthiness Directives; Bombardier Model CL-215-1A10 and CL-215-6B11 Series Airplanes

AGENCY: Federal Aviation Administration, DOT.

ACTION: Final rule.

SUMMARY: This amendment supersedes an existing airworthiness directive (AD), applicable to certain Bombardier Model CL-215-1A10 and CL-215-6B11 series airplanes, that currently requires repetitive inspections to detect cracking of main landing gear (MLG) axles that have been reworked by chromium plating, and replacement of cracked axles with serviceable axles. This amendment requires a dimensional check and follow-on corrective actions, mandates terminating action for certain airplanes, and adds three airplanes to the applicability in the existing AD. The actions specified by this AD are intended to prevent cracking of the inner bearing surface of the MLG axles, which could result in failure of an axle, subsequent separation of the wheel from the airplane, and consequent reduced controllability of the airplane during takeoff or landing. This action is intended to address the identified unsafe condition.

DATES: Effective March 17, 2004.

The incorporation by reference of a certain publication, as listed in the regulations, is approved by the Director of the Federal Register as of March 17, 2004.

The incorporation by reference of a certain other publication, as listed in the regulations, was approved previously by the Director of the Federal Register as of November 8, 1995 (60 FR 54421, October 24, 1995).

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; or at the FAA, New York Aircraft Certification Office, 1600 Stewart Avenue, Westbury, New York; or at the Office of the Federal Register, 800 North Capitol Street, NW., suite 700, Washington, DC.

FOR FURTHER INFORMATION CONTACT: David Lawson, Aerospace Engineer, Airframe and Propulsion Branch, ANE-171, FAA, New York Aircraft Certification Office, 1600 Stewart Avenue, Westbury, New York 11581; telephone (516) 228-7300; fax (516) 794-5531.

SUPPLEMENTARY INFORMATION: A proposal to amend part 39 of the Federal Aviation Regulations (14 CFR part 39) by superseding AD 95-22-04, amendment 39-9411 (60 FR 54421, October 24, 1995), which is applicable to certain Canadair Model CL-215-1A10 and CL-215-6B11 series airplanes, was published in the Federal Register on December 5, 2003 (68 FR 67971). The action proposed to require inspections to detect cracking of main landing gear (MLG) axles that have been reworked by chromium plating, and replacement of cracked axles with serviceable axles. That action also proposed to add a dimensional check and follow-on corrective actions, mandate terminating action for certain airplanes, and add three airplanes to the applicability in the existing AD.

Comments

Interested persons have been afforded an opportunity to participate in the making of this amendment. No comments were submitted in response to the proposal or the FAA's determination of the cost to the public.

Conclusion

The FAA has determined that air safety and the public interest require the adoption of the rule as proposed.

Cost Impact

There are approximately 3 airplanes of U.S. registry that will be affected by this AD.

The inspections that are currently required by AD 95-22-04 take about 2 work hours per airplane to accomplish, at an average labor rate of $65 per work hour. Based on these figures, the cost impact of the currently required inspections on U.S. operators is estimated to be $390, or $130 per airplane, per inspection cycle.

The dimensional check and ultrasonic inspection required by this AD action will take about 2 work hours per airplane to accomplish, at an average labor rate of $65 per work hour. Based on these figures, the cost impact of these checks and inspections on U.S. operators is estimated to be $390, or $130 per airplane, per cycle.

The replacement required by this AD action, if done, will take about 8 work hours per airplane to accomplish, at an average labor rate of $65 per work hour. Required parts will cost approximately $13,000 per assembly (two per airplane). Based on these figures, the cost impact of the replacement required by this AD on U.S. operators is estimated to be $26,520 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9411 (60 FR 54421, October 24, 1995), and by adding a new airworthiness directive (AD), amendment 39-13457, to read as follows:

2004-03-13 Bombardier, Inc. (Formerly Canadair): Amendment 39-13457. Docket 2003-NM-139-AD. Supersedes AD 95-22-04, Amendment 39-9411.

Applicability: Model CL-215-1A10 (piston) and CL-215-6B11 (turboprop) series airplanes, having serial numbers 1001 through 1125 inclusive, certificated in any category.

Compliance: Required as indicated, unless accomplished previously.

To prevent cracking in the inner bearing surface of the main landing gear (MLG) axles, which could result in failure of an axle, subsequent separation of the wheel from the airplane, and consequent reduced controllability of the airplane during takeoff or landing, accomplish the following:

Restatement of Certain Requirements of AD 95-22-04

Repetitive Inspections/Corrective Action

(a) Within 60 days after November 8, 1995 (the effective date of AD 95-22-04, amendment 39-9411), perform either an eddy current inspection or a chemical inspection of the inner bearing surface area of the left and right MLG axles to determine if they have been reworked using chromium plating, in accordance with Canadair Alert Service Bulletin 215-A462, dated June 2, 1993; or Bombardier Alert Service Bulletin 215-A462, Revision 3, dated January 17, 2000. If the inner bearing surface of the MLG axle has not been reworked using chromium plating, no further action is required by this paragraph for that axle only.

(b) If the inner bearing surface of the MLG axle has been reworked using chromium plating, prior to further flight, perform an ultrasonic inspection to detect cracking in the axle, in accordance with Canadair Alert Service Bulletin 215-A462, dated June 2, 1993; or Bombardier Alert Service Bulletin 215-A462, Revision 3, dated January 17, 2000.

(1) If no crack is detected during this inspection, repeat the ultrasonic inspection at intervals not to exceed 150 landings.

(2) If any crack is detected during this inspection, prior to further flight, remove the cracked axle and replace it with a serviceable axle that does not have an inner bearing surface that has been reworked using chromium plating, in accordance with the service bulletin.

New Requirements of This AD

Dimensional Check/Follow-on Corrective Actions

(c) Within 150 landings after the effective date of this AD: Do a dimensional check by measuring the diameter of the left and right MLG axles to determine if they have been reworked outside the dimensions specified in Canadair CL-215 Overhaul Manual PSP 298, or if the axle has unknown rework dimensions or the service life of that axle cannot be determined, in accordance with Bombardier Alert Service Bulletin 215-A462, Revision 3, dated January 17, 2000.

(1) If any axle has been reworked outside the specified dimensions, or has unknown rework dimensions, or if the service life of that axle cannot be determined: Prior to further flight, do an ultrasonic inspection to detect cracking of the axle, in accordance with the alert service bulletin, and replace the axle with a serviceable axle before the accumulation of 1,050 total landings, in accordance with the alert service bulletin. Such replacement ends the repetitive inspections for that axle only.

(i) If no cracking is detected during the inspection required by paragraph (c)(1) of this AD, repeat the inspection at intervals not to exceed 150 landings, and replace with a serviceable axle before the accumulation of 1,050 total landings, in accordance with the alert service bulletin.

(ii) If any cracking is detected during the inspection required by paragraph (c)(1) of this AD, prior to further flight, replace the axle with a serviceable axle in accordance with the alert service bulletin.

(2) If the service life of the axle is known, and the axle has not been reworked outside the specified dimensions, no further action is required by this AD for that axle only.

Actions Done per Previous Issues of Service Bulletin

(d) Inspections and replacements done before the effective date of this AD in accordance with Canadair Alert Service Bulletin 215-A462, dated June 2, 1993; or Bombardier Alert Service Bulletin 215-A462, Revision 1, dated August 26, 1996; or Revision 2, dated March 3, 1999; are considered acceptable for compliance with the applicable actions specified in this AD.

Alternative Methods of Compliance

(e) In accordance with 14 CFR 39.19, the Manager, New York Aircraft Certification Office, FAA, is authorized to approve alternative methods of compliance for this AD.

Incorporation by Reference

(f) The actions shall be done in accordance with Canadair Alert Service Bulletin 215-A462, dated June 2, 1993; and Bombardier Alert Service Bulletin 215-A462, Revision 3, dated January 17, 2000; as applicable.

(1) The incorporation by reference of Bombardier Alert Service Bulletin 215-A462, Revision 3, dated January 17, 2000; is approved by the Director of the Federal Register in accordance with 5 U.S.C. 552(a) and 1 CFR part 51.

(2) The incorporation by reference of Canadair Alert Service Bulletin 215-A462, dated June 2, 1993; was approved previously by the Director of the Federal Register as of November 8, 1995 (60 FR 54421, October 24, 1995).

(3) Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 1600 Stewart Avenue, Westbury, New York; or at the Office of the Federal Register, 800 North Capitol Street, NW., suite 700, Washington, DC.

Note 1: The subject of this AD is addressed in Canadian airworthiness directive CF-1993-08R3, dated March 30, 2000.

Effective Date

(g) This amendment becomes effective on March 17, 2004.

Issued in Renton, Washington, on January 29, 2004.
Kalene C. Yanamura,
Acting Manager, Transport Airplane Directorate, Aircraft Certification Service.

[FR Doc. 04-2577 Filed 2-10-04; 8:45 am]

BILLING CODE 4910-13-P